DEPARTMENT OF HOUSING AND URBAN DEVELOPMENT

[Docket No. FR-4971-N-56]

Notice of Submission of Proposed Information Collection to OMB; Qualification/Requalification CDBG Urban Counties Grants/New York Towns

AGENCY: Office of the Chief Information Officer, HUD.

ACTION: Notice.

SUMMARY: The proposed information collection requirement described below has been submitted to the Office of Management and Budget (OMB) for review, as required by the Paperwork Reduction Act. The Department is soliciting public comments on the subject proposal.

This is a request for an extension of the approval to collect the information under the Community Development Block Grant (CDBG) program.

DATES: Comments Due Date: December 1, 2005.

ADDRESSES: Interested persons are invited to submit comments regarding this proposal. Comments should refer to the proposal by name and/or OMB approval Number (2506-0170) and should be sent to: HUD Desk Officer, Office of Management and Budget, New Executive Office Building, Washington, DC 20503; fax: 202-395-6974.

FOR FURTHER INFORMATION CONTACT: Wayne Eddins, Reports Management Officer, AYO, Department of Housing and Urban Development, 451 Seventh Street, SW., Washington, DC 20410; e-mail Wayne_Eddins@HUD.gov; or Lillian Deitzer at Lillian_L_Deitzer@HUD.gov or telephone (202) 708-2374. This is not a toll-free number. Copies of available documents submitted to OMB may be obtained from Mr. Eddins or Ms. Deitzer.

SUPPLEMENTARY INFORMATION: This notice informs the public that the Department of Housing and Urban Development has submitted to OMB a request for approval of the information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Qualification/Requalification CDBG Urban Counties Grants/New York Towns.

OMB Approval Number: 2506-0170.

Form Numbers: None.

Description of the Need For the Information and its Proposed Use: Based on statutory provisions, counties seeking qualification or requalification as urban counties under the CDBG program must provide information to HUD every three years identifying the units of general local governments (UGLGs) within the county participating as a part of the county for purposes of receiving CDBG funds. The population of UGLGs for each eligible urban county and New York town are used in HUD's allocation of CDBG funds for all entitlement and State CDBG grantees. New York towns must undertake a similar process every three years because under New York State law, New York towns that contain incorporated UGLGs within their boundaries cannot qualify as metropolitan cities unless they execute cooperation agreements with all such incorporated units. The New York town qualification process must be completed prior to the qualification or urban counties so that any town that does not qualify as a metropolitan city will still have an opportunity to participate as part of an urban county.

Frequency of Submission: On occasion.

| Number of respondents | Annual responses | × | Hours per response | = | Burden hours
Reporting Burden | 178 | 61 |  | 62 |  | 3,798

Total Estimated Burden Hours: 3,798.

Affected Members of the Public: Urban counties and New York towns that are eligible as entitlement grantees of the CDBG program.

Status: Extension of an existing collection.

Authority: Section 3507 of the Paperwork Reduction Act of 1995, 44 U.S.C. 35, as amended.

Dated: October 25, 2005.
Wayne Eddins,
Departmental Paperwork Reduction Act Officer, Office of the Chief Information Officer.

[FR Doc. E5-6014 Filed 10-31-05; 8:45 am]

BILLING CODE 4210-27-P